DEPARTMENT OF COMMERCE

Foreign-Trade Zones Board

[Order No. 1173]

Approval for Expanded Manufacturing Authority Rotorex Company, Inc. (Air Cleaners) Walkersville, MD

Pursuant to its authority under the Foreign-Trade Zones Act of June 18, 1934, as amended (19 U.S.C. 81a-81u), the Foreign-Trade Zones Board (the Board) adopts the following Order:

Whereas, the Maryland Department of Transportation, grantee of FTZ 73, has requested authority on behalf of the Rotorex Company, Inc. (Rotorex), to expand the scope of manufacturing activity (air cleaners) conducted under zone procedures within Subzone 73A at the Rotorex facility in Walkersville, Maryland (FTZ Doc. 45-2000, filed 7-27-00);

Whereas, notice inviting public comment was given in the Federal Register (65 FR 47712, 8-3-00);

Whereas, the Board adopts the findings and recommendations of the examiner's report, and finds that the requirements of the FTZ Act and the Board's regulations are satisfied, and that approval of the application is in the public interest;

Now, therefore, the Board hereby approves the request subject to the FTZ Act and the Board's regulations, including Sec. 400.28.

Signed at Washington, DC, this 29th day of May 2001.
Faryar Shirzad,
Assistant Secretary of Commerce for Import Administration, Alternate Chairman, Foreign-Trade Zones Board.
Dennis Puccinelli,
Executive Secretary.

[FR Doc. 01-14797 Filed 6-11-01; 8:45 am]

BILLING CODE 3510-DS-P